DEPARTMENT OF COMMERCE

National Oceanic and Atmospheric Administration

RIN 0648-XE052

North Pacific Fishery Management Council; Public Meeting; Cancellation

AGENCY: National Marine Fisheries Service (NMFS), National Oceanic and Atmospheric Administration (NOAA), Commerce.

ACTION: Notice of cancellation of a public meeting.

SUMMARY: The North Pacific Fishery Management Council's Legislative Committee is cancelling the teleconference meeting scheduled for August 4, 2015, from 1 to 5 p.m. See SUPPLEMENTARY INFORMATION.

DATES: The meeting was scheduled for August 4, 2015.

ADDRESSES: North Pacific Fishery Management Council, 605 W 4th Avenue, Suite 306 Anchorage, AK 99501-2252.

FOR FURTHER INFORMATION CONTACT: Chris Oliver, Executive Director; telephone: (907) 271-2809.

SUPPLEMENTARY INFORMATION: The meeting notice published on July 17, 2015 (80 FR 42479). Please call the North Pacific Fishery Management Council at (907) 271-2809 for any questions.

Dated: July 22, 2015.
Tracey L. Thompson,
Acting Deputy Director, Office of Sustainable Fisheries, National Marine Fisheries Service.

[FR Doc. 2015-18326 Filed 7-24-15; 8:45 am]

BILLING CODE 3510-22-P